POSTAL SERVICE

39 CFR Part 20

International Competitive Services: Price Changes

AGENCY: Postal Service™.

ACTION: Final action.

SUMMARY: The Postal Service is revising Notice 123, Price List, to reflect the price changes to Competitive Services as established by the Governors of the United States Postal Service®.

DATES: Effective July 9, 2023.

FOR FURTHER INFORMATION CONTACT: Dale Kennedy at 202-268-6592 or Kathy Frigo at 202-268-4178.

SUPPLEMENTARY INFORMATION: This final rule describes new prices established by the Governors of the United States Postal Service and submitted for review by the Postal Regulatory Commission in Docket Number CP2023-151 (see https://prc.gov).

This final rule describes the international price changes for the following competitive international extra services and fees:

• International Certificate of Mailing.

• International Registered Mail.

• International Return Receipt.

• Customs Clearance and Delivery Fee.

New prices are or will be located on the Postal Explorer® website at https://pe.usps.com.

International Extra Services and Fees

Depending on country destination and mail type, customers may add a variety of extra services to their outbound shipments and pay a variety of fees.

The Postal Service is increasing fees for certain competitive international extra services as follows:

• International Certificate of Mailing service: Prices for competitive international certificate of mailing service will be as follows:

Certificate of Mailing
| Fee
Individual pieces:
Individual article (PS Form 3817) | $1.95
Duplicate copy of PS Form 3817 or PS Form 3665 (per page) | 1.95
Firm mailing sheet (PS Form 3665), per piece (minimum 3) First-Class Mail International only | 0.57
Bulk quantities:
For first 1,000 pieces (or fraction thereof) | 10.90
Each additional 1,000 pieces (or fraction thereof) | 1.40
Duplicate copy of PS Form 3606 | 1.95

• International Registered Mail service: The fee for competitive international registered mail will increase to $20.25.

• International return receipt service: The fee for competitive international return receipt service will increase to $5.65.

• Customs clearance and delivery fee: The competitive customs clearance and delivery fee per dutiable item will increase to $8.30.

Sarah Sullivan,
Attorney, Ethics and Legal Compliance.

[FR Doc. 2023-10527 Filed 5-19-23; 8:45 am]

BILLING CODE P